DEPARTMENT OF TRANSPORTATION

Maritime Administration

[Docket No. MARAD 2003-16248]

Maersk Line Ltd.; Extension of Comment Period

AGENCY: Maritime Administration, Department of Transportation.

ACTION: Extension of comment period.

SUMMARY: The Maritime Administration (MARAD) is hereby giving notice that the closing date for filing comments in Docket No. MARAD 2003-16248, Notice of Request to Transfer Maritime Security Program Operating Agreements MA/MSP-29 through MA/MSP-43 to Maersk Line, Limited, has been extended to the close of business (5 p.m. EST) November 3, 2003. The notice of request in Docket No. MARAD 2003-16248 was published in the Federal Register of October 3, 2003 (68 FR 57507-57508).

Dated: October 24, 2003.
By Order of the Maritime Administrator.
Joel C. Richard,
Secretary, Maritime Administration.

[FR Doc. 03-27334 Filed 10-29-03; 8:45 am]

BILLING CODE 4910-81-P